DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services (DHHS) at 75, Number 157, pages 49942-49943, August 16, 2010, is amended to revise the functional statements for the Office of Policy, Planning, and Innovation (OPPI) and the Office of the Director (OD). These changes are necessary to strengthen the Office of Policy, Planning, and Innovation's cross-cutting policy role in the Agency as well as externally on a regional and national level. The changes are as follows:

Section M.20, Functions is amended as follows:

The functional statements for the Office of Policy, Planning and Innovation (MD) and the Office of the Director (MD1) are replaced with the following:

Office of Policy, Planning, and Innovation (MD)

The mission of the Office of Policy, Planning, and Innovation (OPPI) is to develop, coordinate, and communicate SAMHSA policy to improve behavioral health in America's communities.

The Office represents SAMHSA at meetings, both internal and external, while promoting SAMHSA's profile in health services research by collaborating with other Departments and Agencies. These include, but are not limited to other operational divisions within the U.S. Department of Health and Human Services (such as the National Institutes of Health, the Centers for Disease Control and Prevention, and the Centers for Medicare and Medicaid Services). The primary intent is to facilitate the adoption of data-driven policies and practices by those working in the field to improve behavioral health outcomes. While SAMHSA's primary mission is to serve those with behavioral health needs and foster health improvements, many partners and allies exist within other fields that also play a crucial role in supporting and improving behavioral health. OPPI will seek to influence these partners and allies to encourage inclusion of behavioral health within their policy initiatives. These objectives are accomplished, in part, by the following OPPI functions and associated directives. OPPI:

1. Facilitates the exchange of information and coordinates activity between SAMHSA and State, Regional, Tribal, Federal, National, and International partners.

2. Works with SAMHSA's Office of the Administrator (OA), and SAMHSA's Offices and Centers to foster a unified understanding and operationalization of policy and budget directions for SAMHSA.

3. Partners with SAMHSA's Centers and Offices to achieve policy alignment in communications, evaluation, operations, and programs.

4. Provides policy advice to the Administrator.

5. Provides policy leadership in cross-cutting issue areas (e.g., Disparities, Tribal Issues, Health Reform, Trauma & Justice, Women's Services, etc.).

6. Provides staff support, portfolio tracking, and coordination services for the Strategic Initiatives leaders and/or teams.

Office of the Director (MD1)

As the chief policy advisor to the Administrator, SAMHSA, the OPPI Director leads the review and development of policy in close coordination with the Administrator, SAMHSA Centers and Offices, DHHS and other Federal Agencies, Tribal, State and local governments, Congress and private constituents and groups.

The Office of the Director serves in other duties designed to promote the organizational mission. These are detailed below:

1. Provides leadership and coordination of strategic planning and provides an integrated and structured approach to program policy analysis, coordination, development, and communication.

2. Coordinates and collaborates with the Office of Financial Resources (OFR) to assure consistency and integration of Agency program policy in budget formulation, and coordinates and collaborates with Centers and programs to assure consistency and integration of Agency policy across programs.

3. Coordinates and collaborates with the OFR on appropriations presentations, analyses, implementation plans and reporting, and with Center and Office leadership on SAMHSA and program authority.

4. Manages and directs the staff and all programmatic activity in the Office of Policy, Planning and Innovation.

Delegation of Authority

All delegations and re-delegations of authority to officers and employees of SAMHSA which were in effect immediately prior to the effective date of this reorganization shall continue to be in effect pending further re-delegations, provided they are consistent with this reorganization.

These organizational changes are effective: October 21, 2011.

Rose Shannon,
Director, Division of Executive Correspondence.

[FR Doc. 2011-27235 Filed 10-20-11; 8:45 am]

BILLING CODE 4160-01-P